DEPARTMENT OF THE TREASURY

Agency Information Collection Activities; Proposed Collection; Comment Request; Financial Sector Critical Infrastructure Cybersecurity Survey

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before March 23, 2020.

ADDRESSES: Send comments regarding the burden estimate, or any other aspect of the information collection, including suggestions for reducing the burden, to Treasury Office of Cybersecurity and Critical Infrastructure Protection, 1500 Pennsylvania Ave. NW, Room 1132, Washington, DC 20220, or email at OCIP@treasury.gov.

FOR FURTHER INFORMATION CONTACT: Copies of the submissions may be obtained from Elizabeth Irwin by emailing OCIP@treasury.gov, calling (202) 622-3376, or viewing the entire information collection request at www.reginfo.gov.

SUPPLEMENTARY INFORMATION:

Title: Financial Sector Critical Infrastructure Cybersecurity Survey.

OMB Control Number: 1505-NEW.

Type of Review: New Collection.

Description: The Office of Cybersecurity and Critical Infrastructure Protection (OCCIP) has proposed a new collection to better understand the cybersecurity risk to U.S. financial services sector and financial services critical infrastructure. OCCIP requires this information to enhance the security and resilience of financial services sector critical infrastructure and reduce operational risk. This information collection will support OCCIP's efforts to identify cybersecurity and operational risks to and interdependencies within U.S. financial services sector critical infrastructure and to work collaboratively with industry and interagency partners to develop risk management and operational resilience initiatives.

Form: None.

Affected Public: Businesses or other for-profits; not-for-profit institutions.

Estimated Number of Respondents: 75.

Frequency of Response: On Occasion.

Estimated Total Number of Annual Responses: 225.

Estimated Time per Response: 8 hours.

Estimated Total Annual Burden Hours: 1,800.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Elizabeth R. Irwin,
Senior Cyber Policy Advisor.

[FR Doc. 2020-00898 Filed 1-21-20; 8:45 am]

BILLING CODE 4810-25-P